DEPARTMENT OF COMMERCE

International Trade Administration

[A-570-952, A-583-844]

Narrow Woven Ribbons With Woven Selvedge From the People's Republic of China and Taiwan: Postponement of Preliminary Determinations of Antidumping Duty Investigations

AGENCY: Import Administration, International Trade Administration, Department of Commerce.

DATES: Effective Date: November 19, 2009.

FOR FURTHER INFORMATION CONTACT: Maisha Cryor at (202) 482-5831 or Zhulieta Willbrand at (202) 482-3147 (the People's Republic of China (“PRC”)); Elizabeth Eastwood at (202) 482-3874 or Miriam Eqab at (202) 482-3693 (Taiwan), AD/CVD Operations, Import Administration, International Trade Administration, U.S. Department of Commerce, 14th Street and Constitution Avenue, NW., Washington, DC 20230.

SUPPLEMENTARY INFORMATION:

Postponement of Preliminary Determinations

On July 29, 2009, the Department of Commerce (“Department”) initiated antidumping duty investigations on narrow woven ribbons with woven selvedge from the PRC and Taiwan.¹ The Initiation Notice stated that, unless postponed, the Department would issue its preliminary determinations no later than 140 days after the date of issuance of the initiation, in accordance with section 733(b)(1)(A) of the Tariff Act of 1930, as amended (“Act”). The preliminary determinations are currently due no later than December 16, 2009.

¹ See Narrow Woven Ribbons with Woven Selvedge from the People's Republic of China and Taiwan: Initiation of Antidumping Duty Investigations, 74 FR 39291, 39296 (August 6, 2009) (“Initiation Notice”).

On October 30, 2009, Berwick Offray LLC, and its wholly-owned subsidiary Lion Ribbon Company, Inc. (collectively, “Petitioner”), made timely requests, pursuant to section 773(b)(1)(A) of the Act, as amended, and 19 CFR 351.205(e), for a 50-day postponement of the preliminary determinations, in order to allow additional time for the Department to: (1) Fully investigate the mandatory respondents in both the PRC and Taiwan investigations and numerous separate rate applications in the PRC investigation; and (2) consider the significant number of complex transactions and adjustments in each investigation, e.g., the substantial number of raw material inputs and the corresponding substantial amount of surrogate value data to be developed in the PRC investigation and the complexity of the model matching in the Taiwan investigation.² Also, Petitioner requested the postponement as this is the first petition ever filed involving the subject merchandise, and given the variety and complexity of the products involved, make this case in combination with the aforementioned reasons identified extraordinarily complicated, therefore requiring additional time to complete. Id. Because there are no compelling reasons to deny the requests, in accordance with section 733(c)(1)(A) of the Act, the Department is postponing the deadline for the aforementioned preliminary determinations by 50 days.

² See Petitioner's Letters regarding, “Narrow Woven Ribbons With Woven Selvedge From China: Petitioner's Request For Postponement Of The Preliminary Determination,” dated October 30, 2009, and “Narrow Woven Ribbons with Woven Selvedge from Taiwan: Petitioner's Request for Postponement of the Preliminary Determination,” dated October 30, 2009.

An extension of 50 days from the current deadline of December 16, 2009, would result in a new deadline of February 4, 2010. The deadline for the final determinations will continue to be 75 days after the date of the preliminary determinations, unless extended.

This notice is issued and published pursuant to section 733(c)(2) of the Act and 19 CFR 351.205(f)(1).

Dated: November 13, 2009.
Ronald K. Lorentzen,
Acting Assistant Secretary for Import Administration.

[FR Doc. E9-27835 Filed 11-18-09; 8:45 am]

BILLING CODE 3510-DS-P